DEPARTMENT OF AGRICULTURE

Forest Service

Notice of New Fee Site; Federal Lands Recreation Enhancement Act

AGENCY: Allegheny National Forest, USDA Forest Service.

ACTION: Notice of New Fee Site.

SUMMARY: The Allegheny National Forest is planning to charge from $100-$150 per night fee for rental of the Farnsworth Cabin. This cabin has not been available to the public for recreation use prior to Spring 2009. This historic cabin was built by the Civilian Conservation Corp in the 1940's. Rentals of other cabins on the Allegheny National Forest have shown that the public appreciates and enjoys the availability of historic rental cabins.

DATES: Farnsworth Cabin will become available for recreation rental Spring, 2009.

ADDRESSES: Forest Supervisor, Allegheny National Forest, P.O. Box 847, Warren PA 16365.

FOR FURTHER INFORMATION CONTACT: Tonika Goins, Recreation Team Leader for Bradford District, 29 Forest Service Drive, Bradford, PA 16701, phone (814) 363-6049, or mail tonikagoins@fs.fed.us.

SUPPLEMENTARY INFORMATION: The Federal Recreation Lands Enhancement Act (title VIII, Pub. L. 108-447) directed the Secretary of Agriculture to publish a six month advance notice in the Federal Register whenever new recreation fee areas are established. The new fee will be reviewed by a Recreation Resource Advisory Committee prior to a final decision and implementation. A market analysis indicates that the $100 to $150/per night fee is both reasonable and acceptable for this sort of unique recreation experience. People wanting to rent Farnsworth Cabin will need to do so through the National Recreation Reservation Service, at http://www.reserveusa.com or by calling 1-877-444-6777. The National Recreation Reservation Service charges a $9 fee for reservation.

Dated: August 6, 2008.
Leanne Marten,
Forest Supervisor (Allegheny National Forest).

[FR Doc. E8-18562 Filed 8-12-08; 8:45 am]

BILLING CODE 3410-11-M